DEPARTMENT OF HEALTH AND HUMAN SERVICES

National Institutes of Health

National Institute of Mental Health; Notice of Meeting

Pursuant to section 10(a) of the Federal Advisory Committee Act, as amended (5 U.S.C. App.), notice is hereby given of a meeting of the Services Subcommittee of the Interagency Autism Coordinating Committee (IACC).

The purpose of the meeting of the Services Subcommittee is to discuss plans for a 2010 IACC Workshop on services and supports being held in November 2010. The Subcommittee meeting will be conducted as a telephone conference call.

Name of Committee: Interagency Autism Coordinating Committee (IACC).

Type of Meeting: Services Subcommittee.

Date: August 10, 2010.

Time: 2 p.m.-3:30 p.m. Eastern Time.

Agenda: The subcommittee plans to discuss the implementation of an IACC workshop on services and supports that will be held on November 8, 2010.

Place: No in-person meeting; conference call only.

Registration: No registration required.

Conference Call Access: Dial: 800-369-3340. Access code: 8415008.

Contact Person: Ms. Lina Perez, Office of Autism Research Coordination, Office of the Director, National Institute of Mental Health, NIH, 6001 Executive Boulevard, NSC, Room 8200, Bethesda, MD 20892-9669, Phone: 301-443-6040, E-mail: IACCPublicInquiries@mail.nih.gov.

Please Note: This meeting will be open to the public through a conference call phone number. Individuals who participate using this service and who need special assistance, such as captioning of the conference call or other reasonable accommodations, should submit a request at least 7 days prior to the meeting.

Members of the public who participate using the conference call phone number will be able to listen to the meeting but will not be heard.

This phone call may end prior to or later than 3:30 p.m., depending on the needs of the subcommittee.

This notice is being published less than 15 days prior to the meeting due to the urgent need to discuss the organization and the implementation of the IACC workshop so that the IACC has time to inform the public of the workshop.

Information about the IACC is available on the Web site: http://www.iacc.hhs.gov.

Dated: July 22, 2010.
Jennifer Spaeth,
Director, Office of Federal Advisory Committee Policy.

[FR Doc. 2010-18505 Filed 7-27-10; 8:45 am]

BILLING CODE 4140-01-P